DEPARTMENT OF JUSTICE

[OMB Number 1110-0071]

Agency Information Collection Activities; Proposed eCollection eComments Request; National Use-of-Force Data Collection: Extension of a Currently Approved Collection

AGENCY: Federal Bureau of Investigation, Department of Justice

ACTION: 60-Day notice.

SUMMARY: The Department of Justice, Federal Bureau of Investigation's (FBI's) Criminal Justice Information Services Division is submitting the following information collection request to the Office of Management and Budget (OMB) for review and approval in accordance with the Paperwork Reduction Act of 1995.

DATES: Comments are encouraged and will be accepted for 60 days until January 3, 2022.

FOR FURTHER INFORMATION CONTACT: Written comments and suggestions regarding the items contained in this notice, especially the estimated burden and associated response time, may be sent for consideration in a number of ways.

• OMB recommends that written comments be emailed to useofforcepublicnotice@fbi.gov.

• Physical letters with comments and suggestions may be directed to Ms. Amy C. Blasher, Unit Chief, Federal Bureau of Investigation, Criminal Justice Information Services Division, Module D-1, 1000 Custer Hollow Road, Clarksburg, West Virginia 26306. Letters may also be sent to the Office of Management and Budget, Office of Information and Regulatory Affairs, Attention: Department of Justice Desk Officer, Washington, DC 20503 or emailed to OMB at OIRA_submissions@obb.eop.gov.

SUPPLEMENTARY INFORMATION: Written comments and suggestions from the public and affected agencies concerning the proposed collection of information are encouraged. Your comments should address one or more of the following four points:

• Evaluate whether the proposed collection of information is necessary for the proper performance of the functions of the FBI, including whether the information will have practical utility;

• Evaluate the accuracy of the agency's estimate of the burden of the proposed collection of information, including the validity of the methodology and assumptions used;

• Evaluate whether, and if so, how the quality, utility, and clarity of the information to be collected can be enhanced; and

• Minimize the burden of the collection of information on those who are to respond, including through the use of appropriate automated, electronic, mechanical, or other technological collection techniques or other forms of information technology, e.g., permitting electronic submission of responses.

Overview of This Information Collection

(1) Type of Information Collection: Extension of a currently approved collection.

(2) The Title of the Form/Collection: National Use-of-Force Data Collection.

(3) The agency form number, if any, and the applicable component of the Department sponsoring the collection: The form number is 1110-0071. Sponsor: Criminal Justice Information Services Division, Federal Bureau of Investigation, Department of Justice.

(4) Affected public who will be asked or required to respond, as well as a brief abstract: Federal, state, local, and tribal law enforcement agencies.

Abstract: The FBI has a long-standing tradition of collecting data and providing statistics concerning Law Enforcement Officers Killed and Assaulted (LEOKA) and justifiable homicides. To provide a better understanding of the incidents of use of force by law enforcement, the Uniform Crime Reporting (UCR) Program developed a new data collection for law enforcement agencies to provide information on incidents where the use of force by a law enforcement officer has led to the death or serious bodily injury of a person, as well as when a law enforcement officer discharges a firearm at or in the direction of a person.

When a use of force occurs, federal, state, local, and tribal law enforcement agencies provide information to the data collection on characteristics of the incident, subjects of the use of force, and the officers who applied force in the incident. Agencies positively affirm, on a monthly basis, whether their agency did or did not have a use of force that resulted in a fatality, a serious bodily injury to a person, or a firearm discharge at or in the direction of a person. When no use-of-force incident occurs in a month, agencies submit a zero report. Enrollment information from agencies and state points of contact is collected when the agency or contact initiates participation in the data collection. Enrollment information is updated no less than annually to assist with managing this data.

The new data collection defines a law enforcement officer using the current LEOKA definition: “All local, county, state, and federal law enforcement officers (such as municipal, county police officers, constables, state police, highway patrol, sheriffs, their deputies, federal law enforcement officers, marshals, special agents, etc.) who are sworn by their respective government authorities to uphold the law and to safeguard the rights, lives, and property of American citizens. They must have full arrest powers and be members of a public governmental law enforcement agency, paid from government funds set aside specifically for payment to sworn police law enforcement organized for the purposes of keeping order and for preventing and detecting crimes, and apprehending those responsible.”

The definition of “serious bodily injury” is based, in part, on 18 United States Code (U.S.C.), section 2246 (4), to mean “bodily injury that involves a substantial risk of death, unconsciousness, protracted and obvious disfigurement, or protracted loss or impairment of the function of a bodily member, organ, or mental faculty.” These actions include the use of a firearm; an electronic control weapon (e.g., Taser); an explosive device; pepper or OC (oleoresin capsicum) spray or other chemical agent; a baton; an impact projectile; a blunt instrument; hands-fists-feet; or canine.

(5) A total number of respondents and the amount of time estimated for an average respondent to respond: As of September 2021, a total of 7,185 agencies covering 443,125 law enforcement officers were enrolled in the National Use-of-Force Data Collection. The burden hours per incident are estimated to be 0.63 of an hour for completion, around 38 minutes per incident.

(6) An estimate of the total public burden (in hours) associated with the collection: Burden estimates are based on sources from the FBI UCR Program, the Bureau of Justice Statistics (BJS), and the Centers for Disease Control (CDC). The BJS recently estimated that approximately 1,400 fatalities attributed to a law enforcement use of force occur annually (Planty, et al., 2015, Arrest-Related Deaths Program: Data Quality Profile, http://www.bjs.gov/index.cfm?ty=pbdetail&iid=5260). In addition, the CDC estimates the incidences of fatal and nonfatal injury—including those due to legal intervention—from emergency department data. In their study, The real risks during deadly police shootouts: Accuracy of the naïve shooter, Lewinski, et al., (2015) estimate law enforcement officers miss their target approximately 50 percent of the time at the firing range. This information was used to develop a simple estimate for the number of times officers discharge a firearm at or in the direction of a person but do not strike the individual. In addition, the FBI UCR Program collects counts of the number of sworn and civilian law enforcement employees in the nation's law enforcement agencies.

The following table shows burden estimates based on previous estimation criteria and current National Use-of-Force Data Collection enrollment numbers.

Estimated Burden for All Law Enforcement Agencies in Annual Collection
Timeframe | Reporting group | Approximate number of officers from participating agencies | Maximum per capita rate of use-of-force occurrence per officer | Minimum per capita rate of use-of-force occurrence per officer | Maximum estimated number of incidents | Minimum estimated number of incidents | Estimated burden hours per incident | Maximum estimate total number of burden hours | Minimum estimate total number of burden hours
Collection (Annual) | All agencies submitting data | 443,125 | 0.122 | 0.012 | 49,630 | 5,318 | 0.63 | 31,267 | 3,350

Based on previous estimation criteria and current enrollment numbers, the FBI is requesting 31,267 burden hours for the annual collection of this data.

If additional information is required, contact: Melody Braswell, Department Clearance Officer, United States Department of Justice, Justice Management Division, Policy and Planning Staff, Two Constitution Square, 145 N Street NE, 3E.405A, Washington, DC 20530.

Dated: October 28, 2021.
Melody Braswell,
Department Clearance Officer for the PRA, U.S. Department of Justice.

[FR Doc. 2021-23885 Filed 11-1-21; 8:45 am]

BILLING CODE 4410-02-P